DEPARTMENT OF ENERGY

Federal Energy Regulatory Commission

[Project No. 14291-000]

Green Wave Mendocino Wave Park; Notice of Preliminary Permit Application Accepted for Filing and Soliciting Comments, Motions To Intervene, and Competing Applications

On September 23, 2011, Green Wave Energy Solutions, LLC, California, filed an application for a preliminary permit, pursuant to section 4(f) of the Federal Power Act (FPA), proposing to study the feasibility of the Green Wave Mendocino Wave Park (Mendocino Wave Project or project) to be located in the Pacific Ocean off the coast of the City of Mendocino in Mendocino County, California. The sole purpose of a preliminary permit, if issued, is to grant the permit holder priority to file a license application during the permit term. A preliminary permit does not authorize the permit holder to perform any land-disturbing activities or otherwise enter upon lands or waters owned by others without the owners' express permission.

The proposed project would consist of the following: (1) 150 to 680 Wave Energy Converters (WEC) (Pelamis or OPT) units having a total installed capacity of 100 megawatts; (2) a proposed 2 to 3-mile-long, 36 kilovolt, 4-inch-diameter, three-phase AC submarine cable; and (3) appurtenant facilities. The project is estimated to have an average annual generation of 250 gigawatthours.

Applicant Contact: Mr. Wayne Burkamp, Green Wave Energy Solutions, LLC, 223 East Thousand Oaks Boulevard, Suite 307, Thousand Oaks, CA 91360; phone (888) 490-6444.

FERC Contact: Kenneth Hogan; phone: (202) 502-8434.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14291) in the docket number field to access the document. For assistance, contact FERC Online Support.

Dated: February 6, 2012.
Kimberly D. Bose,
Secretary.

[FR Doc. 2012-3164 Filed 2-9-12; 8:45 am]

BILLING CODE 6717-01-P